DEPARTMENT OF JUSTICE

National Institute of Corrections

Solicitation for a Cooperative Agreement—Evidence Based Decision Making for Local Criminal Justice Systems

AGENCY: National Institute of Corrections, Department of Justice.

ACTION: Solicitation for a Cooperative Agreement.

SUMMARY: The National Institute of Corrections (NIC) is soliciting proposals from organizations, groups or individuals who would like to enter into a cooperative agreement with NIC for the eighteen month development phase of a new initiative, “Evidence Based Decision Making for Local Criminal Justice Systems” (justice systems).

Project Goal: The overall goal of the initiative is to establish and test articulated linkages (information tools and protocols) between local criminal justice decisions and the application of human and organizational change principles (evidence based practices) to achieve measurable reduction of pretrial misconduct and post-conviction risk of re-offending. The unique focus of the initiative is locally developed strategies of criminal justice officials (broadly defined below) that guide practice within existing sentencing statutes and rules.

The initiative intends to: (1) Improve the quality of information that leads to making individual case decisions in local systems, and (2) engage these systems as policy making bodies to collectively improve the effectiveness and capacity of the decision processes related to pretrial release/sentencing options. The local officials will include judges, prosecutors, public defenders, court administrators, police, human service providers, county executives and legislators, and jail, probation and pretrial services agencies' administrators.

Local criminal justice decisions are defined broadly to include dispositions regarding: Pretrial release or detention and the setting of bail and pretrial release conditions, pretrial diversion or post plea diversion “sentences,” charging and plea bargaining, sentencing of adjudicated offenders regarding use of community and custody options, mitigation or reduction of sentences, and responses to violations of conditions of pretrial release and community sentences.

DATES: Applications must be received by 4 p.m. EST on Friday, April 4, 2008.

ADDRESSES: Mailed applications must be sent to: Director, National Institute of Corrections, 320 First Street, NW., Room 5007, Washington, DC 20534. Applicants are encouraged to use Federal Express, UPS, or similar service to ensure delivery by the due date. Hand delivered applications should be brought to 500 First Street, NW., Washington, DC 20534. At the front desk, call (202) 307-3106, extension 0 for pickup. Faxed applications will not be accepted. Only e-mailed applications which are submitted via grants.gov will be accepted.

FOR FURTHER INFORMATION CONTACT: A copy of this announcement and the required application forms can be downloaded from the NIC Web site at: http://www.nicic.gov. Hard copies of the announcement can be obtained by calling Pam Davison at 1-800-995-6423 x 3-0484 or e-mail pdavison@bop.gov.

SUPPLEMENTARY INFORMATION: Background: As corrections agencies (including court-based pretrial release and probation) take steps to align their supervision and intervention practices with research on offender behavior change, they and the local justice systems which they serve are increasingly aware of the lack of deliberate connection between justice system decisions (pretrial release, plea bargaining, sentencing, mitigation of sentence, revocation) and the offender management options aimed at improved long-term public safety through defendant/offender risk reduction practices. Typically justice officials employ multiple sentencing philosophies or goals, and lack a framework for purposefully weighing or prioritizing goals in individual cases. Often pretrial release/detention, diversion and sentencing decisions are made without information regarding the nature and degree of risk to re-offend and the specific dynamic risk factors that would help the local system determine who would benefit the most from specific intervention or treatment approaches. Among these “disconnections” is the over use of treatment resources for low risk offenders under the assumption that treatment programs are best employed with the more “deserving” or the “first-time, non-violent offenders.” Further, assuming risk is a function of the seriousness of the current charge, the vast majority of sentences are determined at the plea bargaining stage. Thus, in order to achieve clearer alignment of sentencing conditions with effective risk reduction, more informed plea bargaining is essential.

Another critical issue is the lack of educational opportunities for judges, prosecutors, public defenders, legislators and others to learn about the evidence based practice research on offender risk reduction and to develop strategies for more informed decision making. Local criminal justice leaders need assistance in hammering out and testing concrete tools for improved decision making in individual cases, as well as the opportunity for collaborative policy making on the range and capacity of effective pretrial release, diversion and sentencing strategies needed in local justice systems to address the risks of pretrial misconduct and re-offending of their particular populations.

National Institute of Corrections' Experience: Since the early 1990's, the National Institute of Corrections (NIC) has promoted evidence based practices (EBP) through training, information sharing, and technical assistance. At NIC the term EBP simply refers to using the best bodies of knowledge available for decision making at the system, organization, staff, and defendant and offender levels. Through its technical assistance with state and local jurisdictions, the Institute has learned that successful change efforts must maintain an integrated EBP focus in three domains: Application of the research principles themselves; organizational development through total alignment of policy, practice and performance measurement; and collaboration with the community and justice system partners who are stakeholders in the final outcomes. Learning organizations and systems that are disciplined enough to fully integrate the principles and apply them throughout the implementation process, measuring and adjusting constantly as they proceed, are able to reduce recidivism and reach other identified justice goals.

NIC has a long history of developing tools and strategies for local system change at the policy level. There have been valuable collaborations with the State Justice Institute working with 40 jurisdictions on the development of intermediate sanctions. In addition, NIC has supported policy development efforts that address jail crowding, collaborative problem solving on pretrial, probation and parole violations, the design of a more effective array of criminal sanctions, prison and jail to community transition, and improved responses to women defendants/offenders at early decision points in the criminal justice system.

Progress to Date: To guide the development of the Initiative, NIC invited a representative group of stakeholders to participate in a National Advisory Committee. The Advisory Committee met on June 6-8, 2007, in Chicago, IL; and November 8 and 9, 2007, in Denver, CO. The Committee was helpful in identifying the benefits and challenges for each stakeholder group of using evidence based practice information for decision making and the key issues that must be addressed to garner their support. They also made recommendations for potential strategies to achieve project goals. The list of advisors is included as Appendix A, and a summary of the first meeting of the National Advisory Committee as Appendix B. Committee members ask that they not be contacted by organizations and individuals during the applicant preparation process. Members have expressed interest in offering their expertise to whatever organization is selected as best qualified to implement the project, both as advisors and contributors to specific aspects of the work.

Goals of the Project in the Development Phase: NIC will award one cooperative agreement for an 18 month period to work closely with the project's National Advisory Committee and NIC project managers to develop the conceptual framework and supporting materials for engaging local jurisdictions in the achievement of project goals. Again, the goals are two fold. The first is the development of structural linkages (tools, protocols, information systems) between individual criminal justice decisions and evidence based information on defendants and offenders in order to achieve reductions in pretrial misconduct and post-conviction offending. The second is the design and refinement of pretrial and sentencing disposition strategies for the entire local system so that it has the capacity to achieve its risk reduction goals. For efficiency and clarity of purpose in engaging local court systems as pilots, the conceptual framework will be developed prior to selecting two jurisdictions as implementation and learning sites. Additional local jurisdiction pilots may be supported by private funding partners in this multi-year effort. NIC anticipates intensive work in the two pilot sites for up to three years.

There are five (5) objectives for the initial 18 month development phase of this project:

Develop the conceptual framework and supporting materials for the initiative that define the research foundation and planned change strategies for the local criminal justice system demonstrations. The framework will guide intensive facilitation, training and technical assistance to selected local justice systems. Based on the framework produced in the development phase, sites will be expected to develop (a) structural tools and protocols for individual case decision making that link information on the risks and needs of defendants and offenders to desired outcomes, and (b) strategies for system-wide enhancements in the array of effective pretrial release, diversion and sentencing options through actions of the local justice system policy making bodies.

Develop educational tools and engagement strategies that define the relevance of evidence based decision making for different criminal justice stakeholder groups, local public officials (executive and legislative branches), human services providers and the community. These tools and strategies will be tested with representatives of the market segments identified above.

Develop the site selection criteria and approach for choosing the local criminal justice pilot/learning sites.

Document the process and results of project development activities with NIC and the National Advisory Committee.

Develop designs for process and outcome evaluation of project services and products. The evaluation project itself will be funded separately and managed directly by NIC. The evaluation design must be submitted to NIC no later than June 1, 2009, so that funding of the evaluation can occur prior to the end of fiscal year 2009.

There are six (6) deliverables for the initial 18 month development phase of this project:

Project principles and framework for aligning criminal justice decisions with evidence based practice on the reduction of pretrial misconduct and post-conviction offending, and for justice system improvement and accountability, including planned change and implementation strategies, methods of organizational and stakeholder/jurisdiction assessment, basic principles of effective and efficient process and program design, core implementation strategies, measurement, and quantitative feedback.

Strategies for engagement and communication with different internal and external stakeholders groups (listed on pages 1 and 2) and the local criminal justice system as a whole.

Educational and training tools (multi-media) including (a) role-specific scenarios, practical application vignettes and other active, adult learning tools that serve to visually and viscerally illustrate the new system environment for different stakeholders and system actors; and (b) Q-and-A formatted documents to facilitate issues clarification and advocacy positions for various system participants and politically active stakeholders.

Site selection criteria and approach, including a draft announcement soliciting demonstrations sites.

Detailed Cooperative Agreement Project Plan, renegotiated after first 4 months of project operation.

A process and outcome evaluation design for the initiative.

Other deliverables anticipated during a second phase (12 months) of the project are:

Individual local jurisdiction strategic work plans. At a minimum, these site plans will utilize the tools and materials developed in Phase 1.

Media packets for public information and stakeholder assistance.

Other implementation tools as needed such as bench books, glossaries, research and literature reviews, case studies and treatment capacity charts. Note that the media packets and other implementation tools are intended for use by interested local jurisdictions and national and state organizations across the country, as well as by the pilot sites.

Required Expertise: The successful applicant will need the skills and capacity to provide planning and project development assistance in the following areas:

Achieving organizational alignment within justice systems and agencies regarding the use of evidence based practices on reduction of pretrial misconduct and offender risk of re-offending.

Facilitation of meetings and planning sessions of the National Advisory Committee, and other stakeholder and work groups.

Documentation and communication of multi-level strategies, information pieces, progress reports, timelines, budgets, meeting records and surveys.

Management of overall project organization and business processes.

Accessing, interpreting and summarizing research in relevant fields.

Acting as liaison and manager with research experts connected to the project.

Conceptualization of content and process and the ability to translate concepts into appropriate documents and other forms of communication.

Application Instructions: Please prepare a cooperative agreement proposal and limit the program narrative text to no more than 15 double spaced pages, excluding statements of organizational capacity and summaries of the experiences and capabilities of key project staff. Please submit summaries of experience and expertise and not full curricula vitae.

The proposal must include:

A description of project objectives, methodologies and management plan for achieving project goals in the first 18 month period; a budget narrative that defines the relative use of resources for the above objective areas or categories; a list of all persons who will be involved as a member of the project team, including their roles within the organization, areas of expertise related to this project, and complete contact information.

Give at least one example of your experience or your team's experience in delivering each of the following: criminal justice system strategic planning; surveys or program evaluations in criminal justice or court related areas including the design, analysis of results and how the survey or evaluation was used for policy decision making; multi media communication for public education and criminal justice system improvement; and assessment of jurisdiction readiness for major organizational system change.

Explain how you would address Quality Assurance issues and progress updates for this initiative, especially related to your responsibilities to NIC.

Application Requirements: Applications must be submitted using OMB Standard Form 424, Federal Assistance and attachments. Application forms are available from http://www.nicic.gov, under the “About Us” bar, “Cooperative Agreements.” The applications should be concisely written, typed double spaced and reference the “NIC Application Number” and Title provided in this announcement.

Submit an original and three copies of your full proposal (program and budget narrative, application forms and assurances). The original should have the applicant's signature in blue ink. A cover letter must identify the responsible audit agency for the applicant's financial accounts. As previously stated, electronic submissions will only be accepted via http://www.grants.gov.

A telephonic conference will be conducted for persons receiving this solicitation and having a serious intent to respond on March 6, 2008, at 2 p.m. EST. In the conference, NIC project managers will respond to questions regarding the solicitation and expectations of work to be performed. Please notify Phyllis Modley electronically (pmodley@bop.gov) by noon EST on March 4, 2008, regarding your interest in participating in the conference. You will be provided with a call-in number and instructions. In addition, NIC project managers will post answers to questions received from potential applicants on its Web site for the six weeks in which the solicitation is open to public interest.

Questions regarding this solicitation should be addressed to Phyllis Modley at pmodley@bop.gov, or to Dorothy Faust at dfaust@bop.gov.

Authority: Public Law 93-415.

Funds Available: NIC will fund one cooperative agreement for an estimated 18 month period for the development phase of this project for an amount not to exceed $450,000. It is anticipated that additional funds will be made available in subsequent years for both the intensive assistance to pilot/learning sites and evaluation portions of this initiative.

Following award of the cooperative agreement and in the first 4 months of the project NIC, the National Advisory Committee and the awardee will work together to refine the Awardee Project Plan.

Based on the successful completion of the development phase and the continued availability of funds, NIC and partner organizations plan to award additional funds for implementation of project strategies and assistance services. NIC reserves the option to competitively solicit services for subsequent phases of the project. Funds may only be used for the activities that are linked to the desired outcome of the project. No funds are transferred to state or local governments.

Eligibility of Applicants: An eligible applicant is any private agency, educational institution, organization, individual or team with expertise in the described areas.

Review Considerations: Applications received under this announcement will be subjected to a 3 to 5 person NIC and joint funding agency Review Process.

Number of Awards: One.

NIC Application Number: 08C76. This number should appear as a reference line in the cover letter, in box 4a of Standard Form 424.

Catalog of Federal Domestic Assistance Number: 16.602

Executive Order 12372: This project is not subject to the provisions of Executive Order 12372.

Additional Resources: Fourteen reference documents can be found on NIC's Web site. Go to http://www.nicic.gov, click on “Community,” then scroll to “Shared Files,” and finally click on “Tools for Evidence Based Decision Making in Local Justice Systems.”

Appendix A

Evidence Based Decision Making for Local Criminal Justice Systems National Advisory Committee Members November 2007

Hon. Shirley Abrahamson, Chief Justice, Supreme Court of Wisconsin, Madison, Wisconsin.

Edwin Burnette, Chief Public Defender, Cook County Public Defender's Office, Chicago, Illinois.

Gary Christensen, PhD, Corrections Administrator, Retired, Dutchess County Jail, Poughkeepsie, New York.

Major Gary Darling, Criminal Justice Planning Manager, Larimer County, Ft. Collins, Colorado.

Robert Johnson, Anoka County Attorney, Anoka, Minnesota.

Hon. Dale R. Koch, Judge, Multnomah County Circuit Court, Portland, Oregon.

Sally Kreamer, Director, 5th Judicial District, Department of Correctional Services, Des Moines, Iowa.

Carlos Martinez, Chief Assistant Public Defender, Miami, Florida.

Mark S. Thompson, Judicial District Administrator, Hennepin County District Court, Minneapolis, Minnesota.

Hon. Michael Marcus, Judge, Circuit Court, Multanomah County, Portland, Oregon.

Dr. Geraldine Nagy, Chief Probation Officer, Travis County, Austin, Texas.

Wendy Niehaus, Director, Department of Pretrial Services, Hamilton County Court of Common Pleas, Cincinnati, Ohio.

Michael Planet, Executive Officer, Ventura County Superior Court, Ventura, California.

Hon. Ron Reinstein, Judge, Director, Center for Evidence Based Sentencing, Arizona Supreme Court, Phoenix, Arizona.

Susan Shaffer, Director, District of Columbia Pretrial Services Agency, Washington, DC.

David Soares, District Attorney, Office of the District Attorney, Albany County, New York.

Thomas White, Director of Operations, Court Support Services Division, Connecticut Judicial Branch, Weathersfield, Connecticut.

Appendix B

Meeting Notes June 6-8, 2007.

National Advisory Committee—Evidence Based Decision Making for Local Court Systems.

Chicago, Illinois.

Meeting Summary:

The first day served an important purpose: To provide a common ground of understanding and appreciation for the varying roles and perspectives of the participants. Common threads were heard during these discussions. Among them were the recognition that there needed to be a systems approach to using evidence based practices information to enhance public safety and greater collaboration with community partners and stakeholders. In some jurisdictions there needed to be dramatic shifts of policy and understanding of what is most effective in reducing recidivism. Judge Reinstein described it as a “journey for change.”

During the final day and one-half the group continued to explore how each stakeholder group currently uses available information to make decisions. Then, employing a case study approach, the group discussed how additional relevant information, associated with evidence-based practices, might influence or change those decisions. The group then identified the positive reasons for going to an evidence-based model and the barriers or challenges that would need to be addressed. These are outlined further in the document.

When reviewing these notes, please keep in mind that one of the goals of this first meeting was to identify concerns and issues from a variety of perspectives, and not to build a consensus. Therefore, one or more of the participant's comments may be recorded in these notes and is not necessarily representative of the whole group.

Day 1

Description and Scope of NIC Project: (Meeting Objective 1) The scope and desired results of the project reviewed along with NIC's long-term commitment to help jurisdictions make informed decisions about the most effective ways to achieve the goal of reducing recidivism.

Advisory Committee Introductions: (Meeting Objective 2) Participants identified their home jurisdiction/agency; current position and understanding and experiences using evidence based practice (EBP) on offender risk reduction.

Edwin Burnette, Chief Public Defender, Cook County, Illinois: Cook County is a jurisdiction that is fortunate to be on board with evidence-based practices. “For something like this to work, probation is the straw that stirs the drink.”

Gary Christensen, PhD, Corrections Administrator, Duchess County, New York: Runs a jail facility in an upstate rural county for last 30 years. Approaches issue of public safety from several angles. Chairs a countywide criminal justice counsel for the last six years. The purpose of the counsel is to enhance collaboration at the executive level. As a facilitator he sees himself as someone who gets the group to rally around a common goal—improving public safety. “No one can argue against that, whether you are a public defender, county attorney, judge, republican or democrat * * * we start with public safety and work through differences to achieve that goal. It comes down to who can demonstrate in the best way, with evidence, how to stop offenders from coming back * * *”.

Peggy McGarry, JEHT Foundation, New York, New York: Interested in working with collaborative problem solving groups. With all her experience in criminal justice and the changes that have taken place over time, she would like to see us “pull what we learned together to make a difference in peoples' lives and their communities.”

Tim Lynch, PEW Charitable Trust: PEW launched the Public Safety Performance Project which is a state-based sentencing reform campaign to find ways to reduce corrections costs, hold offenders accountable and enhance public safety. “EBP is the underlying principle to reduce prison populations and reduce recidivism.”

Mark Thompson, Judicial District Administrator, Hennepin County District Court, Minneapolis: His jurisdiction has a half-dozen Specialty Courts trying to apply evidence-based practices and develop a system of collaboration to achieve long- and short-term goals.

Robert Johnson, Anoka County Attorney, Anoka, Minnesota: Sees the need to shift the goal of achieving public safety from primarily punishment and locking offenders up for as long as possible to other, more effective approaches. Historical approaches have not produced the desired results. “Prosecutors have to look at areas such as diversion and reentry to help improve public safety.”

Hon. Dale Koch, Presiding Judge Multnomah County, Portland, Oregon: On the board of the National Center for State Courts. Oregon budget problems are forcing his jurisdiction to look at using limited resources more effectively; there are fewer jail and prison beds, and fewer probation officers. “EBP is one of the ways to address the need to be more effective.”

Susan Shaffer, Director, District of Columbia Pretrial Services Agency, Washington DC: Noted that sanctions and incentives are targeting drug defendants. Wants to look at what is being done in probation that is applicable for pretrial. “Need to look at the defendant at the front end of the criminal justice system and what will help them succeed if placed on probation.” Believes the court could benefit from information collected at the pretrial stage to inform decisions at sentencing. Not sure which of the EBP principles can be applied to pretrial, in part due to the short amount of time supervising the defendant; but is certain there is a place for EPB in the pretrial process.

Wendy Niehaus, Director, Department of Pretrial Services, Cincinnati, Ohio: Interested in learning how to deal with women offenders and special populations from a systems approach. Interested in policy, programming and process development. Sees her jurisdiction using information to make decisions as a team. All parties are involved in the pretrial release plan including the judge, prosecutor, defense counsel and the defendant.

Thomas White, Director of Operations, Connecticut Judicial Branch: Implementation of EBP is a difficult process; and when you stop implementing it you stop doing it.” Connecticut's EBP initiative emphasized two things: changing the nature of programs and services to focus on behavior change; and changing the focus of probation from monitoring and control to one of behavior change.

Michael Planet, Executive Officer, Ventura County Superior Court, Ventura, California: Current issues concern dealing with volume of cases and limited budget. “Greatest impact on defendants can be made at the local level.” Experienced some success in EBP with juveniles in collaboration with foundations dealing with disparity issues and use of specialty courts (e.g. Drug Court and Domestic Violence Court.). “What we can do locally is our greatest opportunity.” Pretrial is run by the Sheriff and decisions are based primarily on jail capacity. “The challenge is how to prioritize services. The Court is in a position to bring all the parties together; this is a great opportunity.”

Hon. Ronald Reinstein, Arizona Supreme Court, Phoenix, Arizona: “Probation is ahead of the curve in EBP.” In his jurisdiction, he sees a problem with not enough continuity in leadership and noted that any EBP initiative is vulnerable due to changes in key positions. He wants to see a process where sentencing makes sense, and does not depend on who the prosecutor is or who the judge is. “EBP is a journey for change.”

David Soares, District Attorney, Albany County, New York: As a prosecutor, he is frustrated at seeing an entire generation of people throwing their lives away. He is further frustrated by the trend of institutions closing, particularly in the public health area. “There are opportunities for us to transform our communities and to transform lives; and if we are to change our society we need to see changes in our courts.”

Gary Darling, Jail Administrator, Ft. Collins: “We ran a lot of programs in our jail with not much follow-up. It was not until we realized that we needed to look at things from a systems approach that we started to see some progress. We need to work with the entire community not just those in the judicial system.” As an example he described a planned program that brings health-care and housing professionals to the jail to work on release planning in order to reduce returns to jail. Two re-entry programs are going to be used, one faith-based and one run by human services. He noted that it should be interesting to see how they compare.

Sally Kreamer, Director of Correctional Services, 5th Judicial District, Des Moines, Iowa: Involved in EBP since the late 1980's. Her jurisdiction is fortunate to have a variety of programs that are considered to be evidence-based, such as cognitive behavioral treatment. Presentence data sharing is done statewide with similar processes in all jurisdictions for accumulating and reporting information. Information is shared with all criminal justice partners. Green light and red light designations for programs can identify which programs are successful and at what rates in reducing recidivism. The court gives the department the discretion to make decisions to place an offender in treatment based on an individual assessment or risk and needs and not offense type. At first the defense attorneys fought them on this issue; but over time they accepted the process. Facilities have long waiting lists; the department now works closely with the defense to help target those that need services and maximize use of resources. “Our banked caseload is driven by risk rather than by offense type.” “Two tragic cases drove home the realization that assessment rather than offense type has to be used to determine assignments.” “We are moving towards achieving quality of programming and delivery of services.”

Carlos Martinez, Chief Assistant Public Defender, Dade County Public Defender, Miami, Florida: Florida just allocated $147 million for new prison beds as part of an anti-murder initiative * * * largely due to reliance on anecdotal evidence and fear driven management. “In Florida, risk reduction means lock more people up.” He described prisons as being “a form of welfare for criminals.” Dade County Drug Court was one of the first in the nation. At first the data showed very high success rates but it was largely due to inaccurate methods for measuring. Once they got good data they were able to apply for grant money and improve the program. One of his goals is to help get more EBP information to assist in local decision-making.

Hon. Shirley Abrahamson, Chief Justice Supreme Court of Wisconsin, Madison Wisconsin. (Justice Abrahamson joined the meeting on the second day. Her comments are included in subsequent sections.)

Opening Arguments for Evidence-based Practices: (Meeting Objectives 3 and 4). A review of the research on risk reduction provided a means to identify the core research principles that are key to EBP. An objective was for participants to obtain an understanding of the information and research that is available and important for making decisions. There was also a review of the history and evolution of current sentencing practices.

Definitions/Common Language: In any profession or discipline there is language and terminology that is unique or has meaning that may not be familiar to a person who has not used it before. In many instances a person's perception of a term may be influenced by their own experiences or profession. Evidence-based practices, its principles and the research behind it, are a case in point. In order to provide a context for further work of the Committee, a short exercise was used to explore current understanding by advisors of key terms associated with EBP. No attempt was made to develop consensus on definitions at this time. The primary point of the exercise was to underscore the need to communicate clearly to stakeholders these concepts.

The concepts and terms discussed included: recidivism, criminogenic factors, treatment, static and dynamic risk, need, best practices, what works, evidence based practices, meta-analysis, responsivity, intervention, cognitive behavioral, incapacitation, general deterrence, specific deterrence, just desserts, and risk reduction.

Research On What Is Effective In Changing Behavior And Reducing Recidivism—Dot Faust provided a review of evidence based practice research. Highlights included:

Actuarial Risk instruments. Third generation combines risk/need (static/dynamic) factors. Fourth generation adds matching of services and programs.

Stages of change: Use of staff skills to help offenders through the stages. Has application organizationally. There is a need to educate stakeholders and the public regarding how the model works (use language people can understand).

4 main criminogenic factors: antisocial peers/support, antisocial thinking, antisocial personality, criminal history.

Questions and discussion on mentally ill offenders: mental illness is a risk factor but not as high for criminal behavior. Need to deal with responsivity issues.

Protective Factors: case managers struggle with this in developing supervision plans. How to measure skill-based performance? How do you manage your hiring and training practices? With limited resources you have to target criminogenic factors with good solid case management. Projects and programs need to target these factors otherwise it may lead to failure. Dosage also is very important. Appropriate treatment shows greatest reduction in re-offending. Prosocial support. Policing refers to it as social controls.

Measurement: what gets measured and gets feedback gets done. Data needs to have credibility.

Program implementation and program integrity: how well you implement is the key to success. A badly designed program can have negative results.

EBP and Research for Women Offenders—Phyllis Modley provided the following information: Gender-informed or gender responsive (Bloom and Covington)

Gender Equality defined: Universal or Differentiated Policies Pathways perspective: Survival of abuse, (Stone Center, Carol Gilligan.)

Lifetime history of trauma (55-99% of substance abusers).

Primary caregiver of children.

More economically disadvantaged: poverty is a greater risk factor for women than men.

Offense profiles: Only 17% violent and mostly for lesser assault offenses. Less likely to get sentence reductions than men. Less likely to recidivate.

SAMSHA studies of women with co-occurring disorders: Integrated services effective.

Case management model being developed: Relational, team-based * * * . May need an integrated theory of change for women

Missouri gender specific caseloads: Lower recidivism than general caseloads.

The Evidence and Outcomes Currently Used: (Meeting Objective 5) The group reviewed how each stakeholder group defined outcomes and discussed the supporting evidence regarding those outcomes.

Prosecutors: over 2500 different Prosecutor Offices. Each seen as its own “kingdom.” No one reviews charging decisions. Lots of authority and discretion with each prosecutor. Lack of adequate data systems, little meaningful data kept. General culture among prosecutors does existence on how to charge cases. Performance measures—sense of how they are doing based on anecdotal information. Diversion programs don't use data to make decisions about implementation. Basic measures kept are numbers of trials, convictions, arrests leading to charges, no meaningful measures kept on public safety. Prosecutors can have tremendous impact on public safety and other issues such as public health. Standards kept for time-lines for cases (process standards and goals). One strategy is vertical case assignment, one (no more than two) prosecutor handles the case from start to finish. Little information is automated. What is available is used primarily for prosecution. Case files rich in information and could be shared more readily with other agencies that may have an impact on public safety or used to help a defendant. Speed and volume are what is measured. Priorities given to high profile and serious felony offenses. Little attention to the misdemeanor offender.

Defense Attorneys (Public Defender): performance measures, number of clients seen within 72 hrs (state standard), number of interviews (state standard), case outcomes (state standard), process time (state standard). Level of advocacy—internal measures—number of witness interviews, number and type of motions, number of trials, number of bar complaints, quality—supervisors and training unit, quantity—number of cases processed, National Association performance standards—no accreditation process, track speedy trial demand (within 60 days). How many cases processed, for how little money, without having cases overturned. Performance review—client contact, number of complaints (family, others, non-bar). Win-lose rate not an important consideration. Social workers provide defendant services. Juvenile Court—pleas at arraignment are measured to discourage use; policy to avoid rushing too quickly and take more time to explain consequences. Most misdemeanor cases not assigned attorney in Dade County Florida; defendants not aware of potential consequences. Need to get ownership of outcomes (caught up in the “dispo derby”). Difficulty in getting parties to make some decisions such as who determines who gets electronic monitoring (sheriff, judge, prosecutor, corrections, etc.).

Judges: how many, how fast, and how well things are done. Assignments can be based on how well a judge performs. 50,000 judicial officers in the United States. Difficult to have outcomes for any one role. Need system outcome and all parties to work toward same goal. Sentencing system not working well, looking towards different models: drug courts, treatment, pilot programs. Don't have the data elements to track and determine if they are evidence-based to evaluate what works. Number of pleas, trials, sentenced to prison, convictions, change of judges. Where each case is in system, how long things take, which judge is having completion problems (workload tracking). AIM Project in Wisconsin—risk assessment information to be required by judges as well as information regarding the supervision/ programs that are available and effective in the community. Maintain documentation to see what works and what does not work.

Corrections/Probation: Other than specialty courts—it's all about volume. PSI provides information. Risks/needs assessment completed. Probation—condition compliance and efficiency of case processing (timeliness of reports, assessments, contacts, case plans, warrants, program utilization, data entry.) Measures range from successful completion rates; process measures (program referrals aligned with risk and needs, program retention, program fidelity to EBP); intermediate outcomes (changes in clients' risk level scores, and increases in protective scores that buffer against criminal behavior such as job finding and retention); outcomes—technical violations of probation and re-arrest for new crimes.

Corrections/Jail Administrators: number of disciplinary reports; transition programs—data kept one year after leaving the program; time and processing; length of stay; daily populations; mental health programs—medication and treatment, program completions, return rate; use of force; accreditation compliance; jail MIS (lots of information but not broken down in a useful format to help with programming for the offender once returned to the community); risk assessments scores.

Pretrial Services: number of defendants interviewed; number and type of releases; time from arrest to release; number who re-offend; number of failures to appear; interventions—team of collaborators including treatment providers and probation share information (e.g., number of probation violators in jail: why are they there); trend information used for team decisions (standing committees); ad hoc reports on outcomes of special populations; standards—NAPSA and ABA; surveys.

Judicial Administration: ABA speedy trial/time standards; decisions to place in specialty court based solely on offense type (e.g., all drug cases go to drug court); Specialty Court—program completion rates; customer satisfaction surveys—relation of offender performance to respect shown by the court officers and process; procedural justice—public trust and confidence (notably lacking in family and traffic courts); independent/specialty courts should be responsible for the research on outcomes; volume and speed; evaluation of judges performance varies and not routinely done—time, satisfaction, number of affidavits; track continuances.

Day 2

Debriefing From Day One

History, definitions and outcomes: mostly process measures of speed and volume are kept; exceptions are specialty courts; somewhat discouraging that this is the current situation and that information that is evidence-based is not available; courts not looking at outcomes; missing out on the satisfaction of seeing the affect of changes in offenders' behaviors and lives; if information is obtained, it is not distributed to others who can use it; perception of fairness is important and critical for the system to work; there is a need to measure fairness (e.g., survey and feedback); DC experience showed that when defendants felt they were fairly treated, the recidivism rate was lower; need to talk more about treatment and the quality and availability of services; need to talk about the way we do business; currently there is fear of change: too invested in the way things are done now.

Presentation—the Case Study of Abner Doolittle: (Meeting Objectives 5 and 6). Participants used the case study to illustrate the information typically used for case decisions, and then explored the possible uses of enhanced (EBP) information in those decisions.

Release Decision: Is other information needed?

Pretrial: Mental health, drugs and other issues; verify—support systems, employment, education, static factors, contacts—social and family (phone and three or more references); currently under treatment? medication? (asked by jail too); history of FTA; history under prior periods of supervision; suicide screening.

Prosecutor: Usually what is presented (from the case study) is all that is available and is enough to make decision.

Some jurisdictions don't do evaluations until booked.

What was happening with the defendant for last 5 years? Is the defendant eligible for another track: i.e., mental health?

What Is The Release Decision?

Judges: Would release, no bond, some pretrial supervision. What would EBP information look like?—pretrial risk assessment for FTA and new crime/arrest (static risk); FTA on similar offenders; FTA should be from perspective of defendant behavior, what was the FTA for; information needed for risk reduction—more specific predictions such as if defendant re-offends, will it be for a non-violent versus a person crime—consider dangerousness of the potential new crime; how they performed on supervision can help predict compliance issues and concerns.

In-Custody Classification: What information is currently used to classify an inmate? Mental health, gang affiliations, behavior in custody, assessment.

What EBP information is available? Risk to re-offend, risk of escape, behavior of similar offenders in-custody? Actuarial information—not sure if this is helpful, could be too many types of classifications and bog down operations. Opinions mixed. Should have a continuity of care and attention to re-entry.

Charging Decision—is other information needed? Mental health history.

More specific information about criminal history—what types of victims, nature of priors. Elements of the offense. Ability to pay restitution.

Charging Decision—would risk instrument help? May help with nature of charge but not enough time available to use assessment. May be considered in later decisions. Can't use propensity to commit crimes.

Charging Decision—similar offenders. Defense counsel has problems using profiles of defendants (actuarial risk assessments). Decisions should be individually based. Charging should be based on the merits of the case.

Defense Decision—information needed? Advice from social workers and other disposition specialists. Use information on social history and prior experiences/involvement in programs. Any special needs?

Plea Negotiation Decision—information needed for plea bargain? Discovery, police report, witness interview, client/defendant statement. Talk to witnesses if enough time. What does victim want (prosecutor). Conference with counsels and judge (Cook County). More information on defendant can lead to more appropriate disposition for the individual. Sometimes communication among key parties is hampered when person is not in custody. Decision often resolved at day of trial. What the judges will and won't accept. The impact on defendant's family and dependants can influence what options will be considered in plea negotiation. Pretrial information and reports on compliance and performance. Research needed on role and value of a established relationship between defense attorney and defendant. Should have more time and opportunities to meet with the defendant before getting into plea discussions. Real concern with defense attorneys about the amount of risk assessment information available about the defendant at this stage. This is information that does not necessarily lead to better services or outcomes for the defendants. Services should not be contingent on pleading guilty.

Plea Negotiation Decision—would risk assessment assist decision? Risk assessment would help a judge when both parties are at an impasse and they come to the court to arbitrate. Statutes or guidance need to be in place regarding information that can be used and how it is used at this point in case processing. (e.g. is history of substance abuse appropriate for determining treatment options, but not for guilt determination?). Often defendants coming from jail (in-custody group) do not receive an assessment (depends on jurisdiction).

Pre-Sentence Report—PSI Report. What other information? Mental health

Pretrial supervision/compliance/performance. Sentencing memorandum from defense.

Military history. Previous treatment and supervision performance. Example of Multnomah County's data warehouse presented. How does judge get information without a PSI? Nationally the rates at which PSI's are completed vary enormously (e.g. Multnomah only 3% v. Maricopa 100% of felons).

Sentencing—what information is available for sentencing? Examples from other jurisdictions provided.

Sentencing—what other information is currently used? Justice Abrahamson: Guidelines developed for judges to use. American Law Institute has project for developing sentencing guidelines. Oregon has guidelines. If additional information is available, parties should be creative and depart from guidelines to seek justice. Where should the discretion lie? The prosecutor's office? Post or pre charging * * * behind closed doors? With the judge and on the record for others to see? Whether or not the defendant was detained may influence a favorable outcome for the defendant. Also, costs of sentencing options could impact decisions.

Examination of Outcomes: (Meeting Objective 6) participants identified the benefits and potential “hooks”, legal and ethical issues, boundaries and challenges for increasing the importance of risk reduction as a central goal or outcome of their work. Participants were asked how they would accomplish this given the realities of—organizational culture, political climate, statutory mandates, available resources, and administrative directives.

Judges—Benefits and Hooks: more job satisfaction; resolve cases in way that enhances public safety; get data to judges to show that research is valid, including the limitation of research (don't over sell it); judges want to be within the norm/middle ground of what they should be doing with EBP; builds trusting relationships between judges and probation, can build system capacity; convince judges that this creates a national basis for making difficult decisions (less social science and more public safety language.)

Judges—Issues and Challenges: Getting judges to trust evidence and data; limitations of “good research;” how to work around mandatory sentencing; don't want to be “out in left field” (lost credibility); political—stakeholder, prosecutor, etc. * * * who won't go along with strategies; trust/relationships with other stakeholders; what is the best way to get information to the court? Ethical—make sure all the stakeholders are involved

Corrections—Benefits and Hooks: Potentially reduce jail overcrowding; expense of jail beds; increased accountability in system; more professional job satisfaction for individual and in system as a whole; prompts an environment of education (learning environment); public safety—long-term risk reduction; better work environment—“transformed system.”

Corrections—Issues and Challenges: Culture change more accountability (silo orientation); more collaboration needed; pitfalls of short-term results; EBP implementation never ends; alignment issues—system, organization, staff; development of data systems—meaningful data and better consumers of research; change of personal orientation for everyone in system—fear of change and lack of understanding; time constraints; overstating what EBP can do.

Pretrial—Benefits and Hooks: Pretrial as front-end decision can create confidence in good information and system competence; pretrial risk reduction goal can enhance system management of cases (e.g., get some defendants out and identify high risk defendants); must have confidence in agency; impacts “accountable” release with valid risk assessment and reduction plans.

Pretrial—Issues and Challenges: Faith in information and strategies; getting the “right kind” of information and the “right” time to give information; defining “risk reduction”; power and influence of current bond system—$$$-based, not offender performance-based; procedural protection of presumption of innocence. How does EBP apply in this context? Charging decisions and public safety concerns.

Defense (Public Defender)—Benefits and Hooks: “Holistic best interests”; potential benefit to clients; better targeting of services—can assist in finding defendant appropriate services; could save dollars for jail construction; long-term—possible reduction in workload; could result in lesser restrictive sentence; use of validated information to get around mandatory sentences; better case preparation could result in better outcomes; message—“save money by being more effective”; objectivity of EBP using validated assessment and information.

Defense (Public Defender)—Issues and Challenges: Ethical/cultural—holistic benefits for client vs. legal benefit to defendant; trusting risk tools to validate for individual differences (e.g., race, income status). Equal protection issues—will the defense need to get their own assessment? How data is defined/analyzed may be to detriment of defendant; fear of “profiling” the defendant; statute barriers may prohibit EBP; political power of some stakeholders (e.g., bail bondsmen); predictions of risk based on general profiles versus the individual; admissibility of assessment; manipulation of defendants when being assessed; promise of services if assessed as in need; may result in more defendants staying incarcerated; may result in harsher sentencing/interventions; organizationally—interference with professional judgment; culture of challenging the system. Internal and external politics; historically, the criminal justice system does not reform effectively (not messaged well); capacity needs to go along with assessment, otherwise it may lead to further justifications for incarceration.

Prosecutors—Benefits and Hooks: Better judgments individually and programmatically; more confidence in decision making; more information available can leverage service providers to raise capacities; help manage workload; collective accountability: everyone vested in seeing positive outcomes.

Prosecutors—Issues and Challenges: Driver is collateral consequences on how cases are handled: e.g., guns, sex offenders, INS/ICE, etc. * * *; there may require more work and faith that there is no manipulation of the process; time constraints; figure out development of plea policies: changing current structure and format.

Administration—Benefits and Hooks: Will help with resource management (volume and speed can help with spending more time on risk reduction); system improvement including front end to enhance risk reduction such as preventative services with juvenile and families.

Administration—Issues and Challenges: Alignment of all the organizational policies, resources, evaluations * * *; need to realize that EBP is not only for the adult system but has spillover to all components of the criminal justice system.

Identifying Strategies for NIC: (Meeting Objective 8) After reviewing the benefits and challenges, participants developed potential strategies to achieve project goals.

Note: The following list represents a full menu of proposed strategies. Not all of which were adopted in the current Request for Proposals.

Strategies to Use EBP to Reduce Risk:

Find a pilot site or demonstration sites to make the case for using EBP system-wide; need to be selected for success not failure; need leadership and commitment; need to take risk; all stakeholders should be at the same level of understanding; there should not be conflicting understanding, mixed messages and agendas (consensus amongst the participants); understanding that EBP is dynamic and needs learning environment.

Work with the National District Attorneys' Association and state prosecutors' associations at their training conferences; put together training packages; train trainers (prosecutors) at the various conferences with intent that demand for such training will spread to local jurisdictions; need to show results to convince prosecutors that this is in their best interest.

National Conference of State Legislatures' conference and other key national conferences, e.g., the Conference of State Chief Justices; work with pretrial services and court administrators networks and associations; develop linkages to judges' associations for information sharing and raising awareness and interest.

Develop road show and information packets that can be done whenever the opportunities arise and need to carefully define public safety in terms of offender behavior change or reduction of risk to re offend.

Funding by NIC of a major process and outcome evaluation so eventually a compelling case can be made. Does EBP decision making save money and achieve better outcomes?

Target local public safety/criminal justice coordinating counsels to function as organizational models to introduce EBP.

Include governors, (National Governor's Association), Public Defender Association, American Bar Association.

Develop a framework for integrating and implementing EBP—a criminal justice systems approach. The framework paper would define the mission, goals and approach; identify the issues that need to be addressed from the perspective of different stakeholders; define terms; define roles of stakeholders, and so forth. EBP helps frame what to do; the principles of EBP will need to relate to the operational level (all the players need to know what to do and what it would look like for them).

Articulate the vision and core message of the project (something to rally behind).

Have outside experts come to local jurisdictions to do an analysis (not an evaluation) of the local system. (Don't start with locations that are dysfunctional.)

Build a national consensus on EBP and sentencing.

National symposium. Co-sponsorship by PEW, NIJ, NIC, JEHT * * * et al, to build sense of excitement and momentum, tying to reentry and jail overcrowding (target real issues and concerns that need new and effective direction). Provide opportunities to individuals and jurisdictions that have not had exposure to EBP and case decision making or collective policymaking. “Even just discussions can lead to positive change * * *”.

Develop core principles for systems change. Insist that everything is done as a team modeling the continuum of EBP.

Tying this initiative to Re-entry: starts at charging and providing offenders a way to successfully re-enter society.

Prioritize the work with pretrial and corrections/probation agencies. These are the agencies that have the data and can operationalize and demonstrate how things work. These agencies can act as system pioneers. Judges can use the information and bring along other key players such as prosecutors.

Give judges concrete data on effective interventions and practices. Provide structure for judges to use data on individual offender.

Needs to be national salesperson for each of the system components who can market and teach practitioners about EBP and decision making.

Dated: February 14, 2008.
Thomas J. Beauclair,
Deputy Director.

[FR Doc. E8-3264 Filed 2-21-08; 8:45 am]

BILLING CODE 4410-36-P